DEPARTMENT OF TRANSPORTATION

Federal Aviation Administration

14 CFR Part 39

[Docket No. FAA-2017-0625; Product Identifier 2016-NM-089-AD; Amendment 39-19118; AD 2017-25-04]

RIN 2120-AA64

Airworthiness Directives; Airbus Airplanes

AGENCY: Federal Aviation Administration (FAA), Department of Transportation (DOT).

ACTION: Final rule.

SUMMARY: We are superseding Airworthiness Directive (AD) 2014-22-08, which applied to all Airbus Model A318 and A319 series airplanes; Model A320-111, -211, -212, -214, -231, -232, and -233 airplanes; and Model A321-111, -112, -131, -211, -212, -213, -231, and -232 airplanes. AD 2014-22-08 required revising the maintenance or inspection program to incorporate new or revised airworthiness limitation requirements. This new AD requires revising the maintenance or inspection program to incorporate new or revised airworthiness limitation requirements, and removes airplanes from the applicability. This AD was prompted by a determination that more restrictive maintenance instructions and airworthiness limitations are necessary. We are issuing this AD to address the unsafe condition on these products.

DATES: This AD is effective January 16, 2018.

The Director of the Federal Register approved the incorporation by reference of a certain publication listed in this AD as of January 16, 2018.

The Director of the Federal Register approved the incorporation by reference of a certain other publication listed in this AD as of December 17, 2014 (79 FR 67042, November 12, 2014).

ADDRESSES: For service information identified in this final rule, contact Airbus, Airworthiness Office—EIAS, 1 Rond Point Maurice Bellonte, 31707 Blagnac Cedex, France; telephone: +33 5 61 93 36 96; fax: +33 5 61 93 44 51; email: account.airworth-eas@airbus.com; Internet: http://www.airbus.com. You may view this referenced service information at the FAA, Transport Standards Branch, 1601 Lind Avenue SW., Renton, WA. For information on the availability of this material at the FAA, call 425-227-1221. It is also available on the Internet at http://www.regulations.gov by searching for and locating Docket No. FAA-2017-0625.

Examining the AD Docket

You may examine the AD docket on the Internet at http://www.regulations.gov by searching for and locating Docket No. FAA-2017-0625; or in person at the Docket Management Facility between 9 a.m. and 5 p.m., Monday through Friday, except Federal holidays. The AD docket contains this AD, the regulatory evaluation, any comments received, and other information. The address for the Docket Office (telephone: 800-647-5527) is Docket Management Facility, U.S. Department of Transportation, Docket Operations, M-30, West Building Ground Floor, Room W12-140, 1200 New Jersey Avenue SE., Washington, DC 20590.

FOR FURTHER INFORMATION CONTACT: Sanjay Ralhan, Aerospace Engineer, International Section, Transport Standards Branch, FAA, 1601 Lind Avenue SW., Renton, WA 98057-3356; telephone: 425-227-1405; fax: 425-227-1149.

SUPPLEMENTARY INFORMATION:

Discussion

We issued a notice of proposed rulemaking (NPRM) to amend 14 CFR part 39 to supersede AD 2014-22-08, Amendment 39-18013 (79 FR 67042, November 12, 2014) (“AD 2014-22-08”). AD 2014-22-08 applied to all Airbus Model A318 and A319 series airplanes; Model A320-111, -211, -212, -214, -231, -232, and -233 airplanes; and Model A321-111, -112, -131, -211, -212, -213, -231, and -232 airplanes. The NPRM published in the Federal Register on June 27, 2017 (82 FR 29016). The NPRM was prompted by a determination that more restrictive maintenance instructions and airworthiness limitations are necessary. The NPRM proposed to revise the maintenance or inspection program to incorporate new or revised airworthiness limitation requirements, and to remove airplanes from the applicability. We are issuing this AD to prevent a safety-significant latent failure (that is not annunciated), which, in combination with one or more other specific failures or events, could result in a hazardous or catastrophic failure condition.

The European Aviation Safety Agency (EASA), which is the Technical Agent for the Member States of the European Union, has issued EASA AD 2016-0092, dated May 13, 2016 (referred to after this as the Mandatory Continuing Airworthiness Information, or “the MCAI”), to correct an unsafe condition for all Airbus Model A318 and A319 series airplanes; Model A320-211, -212, -214, -231, -232, and -233 airplanes; and Model A321-111, -112, -131, -211, -212, -213, -231, and -232 airplanes. The MCAI states:

The airworthiness limitations for Airbus A320 family aeroplanes are currently defined and published in Airbus A318/A319/A320/A321 Airworthiness Limitations Section (ALS) documents. The airworthiness limitations applicable to the Certification Maintenance Requirements (CMR), which are approved by EASA, are published in ALS Part 3.

The instructions contained in the ALS Part 3 have been identified as mandatory actions for continued airworthiness. Failure to comply with these instructions could result in an unsafe condition.

Previously, EASA issued AD 2013-0148 [which corresponds to FAA AD 2014-22-08] to require accomplishment of all maintenance tasks as described in ALS Part 3 at Revision 01. The new ALS Part 3 Revision 03 (hereafter referred to as `the ALS' in this [EASA] AD) includes new and/or more restrictive requirements.

For the reason described above, this [EASA] AD retains the requirements of EASA AD 2013-0148, which is superseded, and requires accomplishment of all maintenance tasks as described in the ALS.

The unsafe condition is a safety-significant latent failure (that is not annunciated), which, in combination with one or more other specific failures or events, could result in a hazardous or catastrophic failure condition. You may examine the MCAI in the AD docket on the Internet at http://www.regulations.gov by searching for and locating Docket No. FAA-2017-0625.

Comments

We gave the public the opportunity to participate in developing this AD. The following presents the comments received on the NPRM and the FAA's response to each comment.

Request To Revise Cost Estimate

Delta Airlines (DAL) requested that we revise the cost estimate of the proposed AD. DAL pointed out that revising the maintenance or inspection program to incorporate new or revised airworthiness limitation requirements is a fleet-based effort. DAL stated that it estimates the cost to be 200 work-hours per operator, which would total $17,000 per operator. DAL also stated that each operator would incur a similar cost that is independent of fleet size.

We disagree with the request to revise the cost estimate. The cost estimate in ADs is based on an estimated cost per airplane regardless of any operator's fleet size, which varies by operator. Additionally, the cost estimate describes only the direct costs and time necessary to perform the specific actions required by this AD. We recognize that, in doing the actions required by an AD, operators might incur incidental costs in addition to the direct costs. The cost analysis in AD rulemaking actions, however, typically does not include incidental costs such as the time necessary for planning or time necessitated by other administrative actions. Those incidental costs, which might vary significantly among operators, are almost impossible to calculate. We have not changed this AD in this regard.

Requests To Revise Previously Approved Alternative Method of Compliance (AMOC) Provisions

DAL requested that we revise paragraph (k)(1)(ii) of the proposed AD from approving previously approved AMOCs for AD 2014-22-08 as AMOCs for the corresponding provisions of paragraph (g) of the proposed AD, to being approved for the corresponding provisions of paragraph (i) of the proposed AD. DAL pointed out that this change would allow the AMOCs previously approved for AD 2014-22-08 to be applicable to both paragraphs (g) and (i) of the proposed AD, eliminating the need for new AMOCs to address issues identified in AD 2014-22-08 and carried over to the proposed AD.

Spirit Airlines noted that, based on paragraph (k)(1)(ii) of the proposed AD, AMOCs approved for AD 2014-22-08 would not be valid for the new requirements of paragraph (i) of the proposed AD.

We agree that certain AMOCs approved for AD 2014-22-08 are approved for the corresponding provisions of this AD. We have added paragraph (k)(1)(iii) to this AD to specify that the certain previous AMOCs that are approved for AD 2014-22-08 are approved as AMOCs for the corresponding provisions of paragraph (i) of this AD. The previous AMOCs include Airbus A318/A319/A320/A321 ALS Part 3, CMR, Revision 05, dated April 6, 2017.

Request To Cite Latest Revision of the Service Information

Spirit Airlines requested that we refer to Revision 05, dated April 6, 2017, of Airbus A318/A319/A320/A321 ALS Part 3, CMR, (“ALS Part 3”) in paragraph (i) of this AD (we referred to Airbus A318/A319/A320/A321 ALS Part 3, CMR, Revision 03, dated December 21, 2015 (“Airbus A318/A319/A320/A321 ALS Part 3, Revision 03”), as the appropriate source of service information for accomplishing the revision specified in paragraph (i) of the proposed AD).

We do not agree with the request to specify the revised service information in this final rule. The revised service information includes new and more restrictive items and is applicable to additional airplanes. To require incorporation of the revised service information, we would have to issue a supplement NPRM for public comment and would incur undue delay in issuance of the final rule. In addition, EASA has not published an AD mandating Revision 05, dated April 6, 2017, of ALS Part 3. We are considering further rulemaking to supersede this final rule to require incorporating the revised service information. We have made no change to this AD in this regard.

Request To Allow the of Use Later Approved Revisions of the Service Information

DAL requested that we allow the use of later approved revisions of Airbus A318/A319/A320/A321 ALS Part 3. DAL stated that permitting later approved revisions would reduce the number of requests for an AMOC. DAL also mentioned that Airbus has requested approval of Variation 5.1, of ALS Part 3, as an AMOC to AD 2014-22-08.

We do not agree with DAL's request to allow the use of later approved revisions of Airbus A318/A319/A320/A321 ALS Part 3. We cannot use the phrase, “or later approved revisions,” in an AD when referring to the service document because doing so violates Office of the Federal Register (OFR) regulations for approval of materials “incorporated by reference” in rules. However, as stated previously, we have revised this AD to specify that AMOCs approved for AD 2014-22-08 are approved for the corresponding provisions of this AD.

Conclusion

We reviewed the available data, including the comments received, and determined that air safety and the public interest require adopting this AD with the changes described previously and minor editorial changes. We have determined that these changes:

• Are consistent with the intent that was proposed in the NPRM for correcting the unsafe condition; and

• Do not add any additional burden upon the public than was already proposed in the NPRM.

Related Service Information Under 1 CFR Part 51

Airbus has issued A318/A319/A320/A321 Airworthiness Limitations Section (ALS) Part 3, Certification Maintenance Requirements (CMR), Revision 03, dated December 21, 2015. This service information describes maintenance instructions and airworthiness limitations, including updated inspections and intervals, to be incorporated into the maintenance or inspection program. This service information is reasonably available because the interested parties have access to it through their normal course of business or by the means identified in the ADDRESSES section.

Costs of Compliance

We estimate that this AD affects 1,032 airplanes of U.S. registry.

The actions required by AD 2014-22-08, and retained in this AD take about 1 work-hour per product, at an average labor rate of $85 per work-hour. Based on these figures, the estimated cost of the actions that are required by AD 2014-22-08 is $85 per product.

We also estimate that it would take about 1 work-hour per product to comply with the basic requirements of this AD. The average labor rate is $85 per work-hour. Based on these figures, we estimate the cost of this AD on U.S. operators to be $87,720, or $85 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes to the Director of the System Oversight Division.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2014-22-08, Amendment 39-18013 (79 FR 67042, November 12, 2014), and adding the following new AD:

2017-25-04 Airbus: Amendment 39-19118; Docket No. FAA-2017-0625; Product Identifier 2016-NM-089-AD.

(a) Effective Date

This AD is effective January 16, 2018.

(b) Affected ADs

This AD replaces AD 2014-22-08, Amendment 39-18013 (79 FR 67042, November 12, 2014) (“AD 2014-22-08”).

(c) Applicability

This AD applies to the Airbus airplanes identified in paragraphs (c)(1), (c)(2), (c)(3), and (c)(4) of this AD, certificated in any category, with an original certificate of airworthiness or original export certificate of airworthiness issued on or before December 21, 2015.

(1) Model A318-111, -112, -121, and -122 airplanes.

(2) Model A319-111, -112, -113, -114, -115, -131, -132, and -133 airplanes.

(3) Model A320-211, -212, -214, -231, -232, and -233 airplanes.

(4) Model A321-111, -112, -131, -211, -212, -213, -231, and -232 airplanes.

(d) Subject

Air Transport Association (ATA) of America Code 05, Time Limits/Maintenance Checks.

(e) Reason

This AD was prompted by a determination that more restrictive maintenance instructions and airworthiness limitations are necessary. We are issuing this AD to prevent a safety-significant latent failure (that is not annunciated), which, in combination with one or more other specific failures or events, could result in a hazardous or catastrophic failure condition.

(f) Compliance

Comply with this AD within the compliance times specified, unless already done.

(g) Retained Maintenance or Inspection Program Revision, With New Terminating Action

This paragraph restates the requirements of paragraph (g) of AD 2014-22-08, with new terminating action. Within 30 days after December 17, 2014 (the effective date of AD 2014-22-08), revise the maintenance or inspection program, as applicable, by incorporating Airbus A318/A319/A320/A321 Airworthiness Limitations Section (ALS) Part 3, Certification Maintenance Requirements (CMR), Revision 1, dated June 15, 2012. The initial compliance time for accomplishing the tasks specified in Airbus A318/A319/A320/A321 ALS Part 3, CMR, Revision 1, dated June 15, 2012, is at the applicable time specified in the Record of Revisions of Airbus A318/A319/A320/A321 ALS Part 3, CMR, Revision 1, dated June 15, 2012; or within 30 days after December 17, 2014 (the effective date of AD 2014-22-08), whichever occurs later. Accomplishing the actions specified in paragraph (i) of this AD terminates the requirements of this paragraph.

(h) Retained Provision Regarding Alternative Actions and Intervals, With a New Exception

This paragraph restates the requirements of paragraph (h) of AD 2014-22-08, with a new exception. Except as required by paragraph (i) of this AD, after accomplishing the revisions required by paragraph (g) of this AD, no alternative actions (e.g., inspections) or intervals may be used unless the actions or intervals are approved as an alternative method of compliance (AMOC) in accordance with the procedures specified in paragraph (k)(1) of this AD.

(i) New Maintenance or Inspection Program Revision

Within 30 days after the effective date of this AD: Revise the maintenance or inspection program, as applicable, to incorporate Airbus A318/A319/A320/A321 Airworthiness Limitations Section (ALS) Part 3, Certification Maintenance Requirements (CMR), Revision 03, dated December 21, 2015 (“Airbus A318/A319/A320/A321 ALS Part 3, Revision 03”). The initial compliance time for accomplishing the tasks specified in Airbus A318/A319/A320/A321 ALS Part 3, Revision 03, is at the applicable time specified in Airbus A318/A319/A320/A321 ALS Part 3, Revision 03, or within 30 days after the effective date of this AD, whichever occurs later. Accomplishing the actions specified in this paragraph terminates the requirements of paragraph (g) of this AD.

(j) New Provision Regarding No Alternative Actions or Intervals

After the action required by paragraph (i) of this AD has been done, no alternative actions (e.g., inspections) or intervals may be used unless the actions or intervals are approved as an AMOC in accordance with the procedures specified in paragraph (k)(1) of this AD.

(k) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (l)(2) of this AD. Information may be emailed to: 9-ANM-116-AMOC-REQUESTS@faa.gov.

(i) Before using any approved AMOC, notify your appropriate principal inspector, or lacking a principal inspector, the manager of the local flight standards district office/certificate holding district office.

(ii) AMOCs approved previously for AD 2014-22-08 are approved as AMOCs for the corresponding provisions of paragraph (g) this AD.

(iii) AMOCs approved previously for AD 2014-22-08, which are included in the FAA AMOC letters specified in paragraphs (k)(1)(iii)(A) and (k)(1)(iii)(B), are approved as AMOCs for the corresponding provisions of paragraph (i) of this AD.

(A) FAA AMOC letter ANM-116-17-002R1, dated November 14, 2016.

(B) FAA AMOC letter ANM-116-17-323, dated June 12, 2017.

(2) Contacting the Manufacturer: As of the effective date of this AD, for any requirement in this AD to obtain corrective actions from a manufacturer, the action must be accomplished using a method approved by the Manager, International Section, Transport Standards Branch, FAA; or the European Aviation Safety Agency (EASA); or Airbus's EASA Design Organization Approval (DOA). If approved by the DOA, the approval must include the DOA-authorized signature.

(l) Related Information

(1) Refer to Mandatory Continuing Airworthiness Information (MCAI) EASA AD 2016-0092, dated May 13, 2016, for related information. This MCAI may be found in the AD docket on the Internet at http://www.regulations.gov by searching for and locating Docket No. FAA-2017-0625.

(2) For more information about this AD, contact Sanjay Ralhan, Aerospace Engineer, International Section, Transport Standards Branch, FAA, 1601 Lind Avenue SW., Renton, WA 98057-3356; telephone: 425-227-1405; fax: 425-227-1149.

(m) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on January 16, 2018.

(i) Airbus A318/A319/A320/A321 Airworthiness Limitations Section (ALS) Part 3, Certification Maintenance Requirements (CMR), Revision 03, dated December 21, 2015.

(ii) Reserved.

(4) The following service information was approved for IBR on December 17, 2014 (79 FR 67042, November 12, 2014).

(i) Airbus A318/A319/A320/A321 Airworthiness Limitations Section (ALS) Part 3, Certification Maintenance Requirements (CMR), Revision 1, dated June 15, 2012.

(ii) Reserved.

(5) For service information identified in this AD, contact Airbus, Airworthiness Office—EIAS, 1 Rond Point Maurice Bellonte, 31707 Blagnac Cedex, France; telephone: +33 5 61 93 36 96; fax: +33 5 61 93 44 51; email: account.airworth-eas@airbus.com; Internet: http://www.airbus.com.

(6) You may view this service information at the FAA, Transport Standards Branch, 1601 Lind Avenue SW., Renton, WA. For information on the availability of this material at the FAA, call 425-227-1221.

(7) You may view this service information that is incorporated by reference at the National Archives and Records Administration (NARA). For information on the availability of this material at NARA, call 202-741-6030, or go to: http://www.archives.gov/federal-register/cfr/ibr-locations.html.

Issued in Renton, Washington, on November 29, 2017.
Jeffrey E. Duven,
Director, System Oversight Division, Aircraft Certification Service.

[FR Doc. 2017-26364 Filed 12-8-17; 8:45 am]

BILLING CODE 4910-13-P